DEPARTMENT OF DEFENSE

Department of the Navy

Notice of Extension of Public Comment Period for the Draft Environmental Impact Statement for EA-18G “Growler” Airfield Operations at Naval Air Station Whidbey Island Complex, Washington

AGENCY: Department of the Navy, DoD.

ACTION: Notice.

SUMMARY: A notice of availability was published by the U.S. Environmental Protection Agency (EPA) in the Federal Register on November 10, 2016 (81 FR 79019) for the Draft Environmental Impact Statement (EIS) for EA-18G “Growler” Airfield Operations at Naval Air Station (NAS) Whidbey Island Complex, Washington. At that time, the Department of the Navy (DoN) offered a 75-day extended public comment period which is will end on January 25, 2017. This notice confirms a 30-day extension of the public comment period through February 24, 2017.

FOR FURTHER INFORMATION CONTACT: EA-18G EIS Project Manager, Naval Facilities Engineering Command (NAVFAC) Atlantic, Attention: Code EV21/SS; 6506 Hampton Boulevard, Norfolk, Virginia 23508.

SUPPLEMENTARY INFORMATION: The public comment period for the Draft EIS for EA-18G “Growler” Airfield Operations at NAS Whidbey Island Complex, Washington, will be extended until February 24, 2017. Comments may be submitted in writing to the address identified above. In addition, comments may be submitted online at http://www.whidbeyeis.com. All written comments must be postmarked or received online by February 24, 2017 to ensure they become part of the official record. All comments submitted to the DoN during the public comment period will be addressed in the Final EIS.

Those commenters submitting written comments should indicate whether they authorize release of personally identifiable information. The DoN may release the city, state, and 5-digit zip code of individuals who provide comments during the Draft EIS public review period. However, the names, street addresses, email addresses and screen names, telephone numbers, or other personally identifiable information of those individuals will not be released by the DoN unless required by law.

The Draft EIS is available for public electronic viewing or download at the project Web site. A paper copy of the Draft EIS may be reviewed at 22 public libraries in the northern Puget Sound region. The full list of and addresses for each of the libraries may be found at the project Web site.

Dated: January 12, 2017.
A.M. Nichols,
Lieutenant Commander, Judge Advocate General's Corps, U.S. Navy, Federal Register Liaison Officer.

[FR Doc. 2017-01513 Filed 1-23-17; 8:45 am]

BILLING CODE 3810-FF-P